ENVIRONMENTAL PROTECTION AGENCY

[FRL-10659-01-OA]

Local Government Advisory Committee (LGAC) Meeting

AGENCY: Environmental Protection Agency (EPA).

ACTION: Notification of public meeting.

SUMMARY: Pursuant to the Federal Advisory Committee Act (FACA), EPA hereby provides notice of a meeting for the Local Government Advisory Committee (LGAC) on the date and time described below. This meeting will be open to the public. For information on public attendance and participation, please see the registration information under SUPPLEMENTARY INFORMATION.

DATES: The LGAC will meet virtually March 10th, 2023, from 11:00 a.m. through 2:00 p.m. Eastern Standard Time.

FOR FURTHER INFORMATION CONTACT: Paige Lieberman, Designated Federal Officer (DFO), at LGAC@epa.gov or 202-564-9957.

Information on Accessibility: For information on access or services for individuals requiring accessibility accommodations, please contact Paige Lieberman by email at LGAC@epa.gov. To request accommodation, please do so five (5) business days prior to the meeting, to give EPA as much time as possible to process your request.

SUPPLEMENTARY INFORMATION:

Content

The LGAC will hear from EPA leadership regarding several new proposed charges. Details on the charges will be posted online (link below) one week prior to the meeting.

Registration

The meeting will be held virtually through an online audio and video platform. Members of the public who wish to participate should register by contacting the Designated Federal Officer (DFO) at LGAC@epa.gov by January 12, 2023. The agenda and other supportive meeting materials will be available online at https://www.epa.gov/ocir/local-government-advisory-committee-lgac and will be emailed to all registered. In the event of cancellation for unforeseen circumstances, please contact the DFO or check the website above for reschedule information.

Dated: February 6, 2023.
Paige Lieberman,
Designated Federal Officer, U.S. Environmental Protection Agency.

[FR Doc. 2023-03034 Filed 2-10-23; 8:45 am]

BILLING CODE 6560-50-P